DEPARTMENT OF TRANSPORTATION

Federal Aviation Administration

14 CFR Part 39

[Docket No. 2000-NM-398-AD; Amendment 39-12784; AD 2002-12-12]

RIN 2120-AA64

Airworthiness Directives; Bombardier Model CL-215-1A10 and CL-215-6B11 Series Airplanes

AGENCY: Federal Aviation Administration, DOT.

ACTION: Final rule.

SUMMARY: This amendment supersedes an existing airworthiness directive (AD), applicable to certain Bombardier Model CL-215-1A10 and CL-215-6B11 series airplanes, that currently requires repetitive inspections to detect cracking on certain wing-to-fuselage frame angles; and repair, if necessary. This amendment decreases the compliance time for the initial inspection to detect cracking on certain wing-to-fuselage frame angles and decreases the interval between repetitive inspections. This amendment is prompted by issuance of mandatory continuing airworthiness information by a foreign civil airworthiness authority. The actions specified by this AD are intended to detect and correct cracking in the wing-to-fuselage frame angles, which could result in reduced structural integrity of the airframe.

DATES: Effective July 25, 2002.

The incorporation by reference of Bombardier Alert Service Bulletin 215-A476, Revision 4, dated August 18, 2000, as listed in the regulations, is approved by the Director of the Federal Register as of July 25, 2002.

The incorporation by reference of Bombardier Alert Service Bulletin 215-A476, Revision 3, dated August 21, 1998, as listed in the regulations, was approved previously by the Director of the Federal Register as September 7, 1999 (64 FR 41775, August 2, 1999).

ADDRESSES: The service information referenced in this AD may be obtained from Bombardier, Inc., Canadair, Aerospace Group, P.O. Box 6087, Station Centre-ville, Montreal, Quebec H3C 3G9, Canada. This information may be examined at the Federal Aviation Administration (FAA), Transport Airplane Directorate, Rules Docket, 1601 Lind Avenue, SW., Renton, Washington; or at the FAA, New York Aircraft Certification Office, 10 Fifth Street, Third Floor, Valley Stream, New York 11581; or at the Office of the Federal Register, 800 North Capitol Street, NW., suite 700, Washington, DC.

FOR FURTHER INFORMATION CONTACT: Serge Napoleon, Aerospace Engineer, Airframe and Propulsion Branch, ANE-171, FAA, New York Aircraft Certification Office, 10 Fifth Street, Third Floor, Valley Stream, New York 11581; telephone (516) 256-7512; fax (516) 568-2716.

SUPPLEMENTARY INFORMATION: A proposal to amend part 39 of the Federal Aviation Regulations (14 CFR part 39) by superseding AD 99-16-04, amendment 39-11239 (64 FR 41775, August 2, 1999), which is applicable to certain Bombardier Model CL-215-1A10 and CL-215-6B11 series airplanes, was published in the Federal Register on February 8, 2002 (67 FR 5958). The action proposed to continue to require repetitive inspections to detect cracking on certain wing-to-fuselage frame angles, and repair, if necessary. The action also proposed to decrease the compliance time for the initial inspection to detect cracking on certain wing-to-fuselage frame angles and to decrease the interval between repetitive inspections.

Comments

Interested persons have been afforded an opportunity to participate in the making of this amendment. No comments were submitted in response to the proposal or the FAA's determination of the cost to the public.

Conclusion

The FAA has determined that air safety and the public interest require the adoption of the rule as proposed.

Cost Impact

There is one airplane of U.S. registry that will be affected by this AD.

The inspections that are currently required by AD 99-16-04 take approximately 2 work hours per airplane to accomplish, at an average labor rate of $60 per work hour. Based on these figures, the cost impact of the previously required actions on U.S. operators is estimated to be $120 per airplane, per inspection cycle.

The new inspections that are required by this new AD will take approximately 3 work hours per airplane to accomplish, at an average labor rate of $60 per work hour. Based on these figures, the cost impact of the new requirements of this AD on U.S. operators is estimated to be $180 per airplane, per inspection cycle.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11239 (64 FR 41775, August 2, 1999), and by adding a new airworthiness directive (AD), amendment 39-12784, to read as follows:

2002-12-12 Bombardier, Inc.: Amendment 39-12784. Docket 2000-NM-398-AD. Supersedes AD 99-16-04, Amendment 39-11239.

Applicability: Model CL-215-1A10 and CL-215-6B11 series airplanes, serial numbers 1001 through 1125 inclusive, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (g) of this AD. The request should include an assessment of the effect of the modification, alteration, or repair on the unsafe condition addressed by this AD; and, if the unsafe condition has not been eliminated, the request should include specific proposed actions to address it.

Compliance: Required as indicated, unless accomplished previously.

To detect and correct cracking in the wing-to-fuselage frame angles, which could result in reduced structural integrity of the airframe, accomplish the following:

Restatement of Requirements of AD 99-16-04

(a) Perform an eddy current inspection to detect cracking of the fuselage frame angles at the wing front and rear spar attachment to the fuselage at the later of the times specified in paragraphs (a)(1) and (a)(2) of this AD, in accordance with Bombardier Alert Service Bulletin 215-A476, Revision 3, dated August 21, 1998. Thereafter, repeat the inspection at intervals not to exceed 415 flight hours.

(1) Prior to the accumulation of 2,300 total flight hours.

(2) Within 150 flight hours or 4 months after September 7, 1999 (the effective date of AD 99-16-04, amendment 39-11239), whichever occurs first.

Note 2: Accomplishment of the eddy current inspections of the lower surfaces of the frame angles conducted in accordance with Bombardier Alert Service Bulletin 215-A476, Revision 1, dated January 14, 1997, or Bombardier Alert Service Bulletin 215-A476, Revision 2, dated June 15, 1998, prior to the effective date of this AD, is considered to be acceptable for compliance with the requirements of paragraph (a) of this AD for that area only.

(b) If the results of any inspection required by paragraph (a) of this AD are outside the limits specified in paragraph 2.C.(7) of Bombardier Alert Service Bulletin 215-A476, Revision 3, dated August 21, 1998, or Bombardier Alert Service Bulletin 215-A476, Revision 4, dated August 18, 2000: Prior to further flight, repair in accordance with a method approved by the Manager, New York Aircraft Certification Office (ACO), FAA.

New Actions Required by This AD

Initial Inspection

(c) Unless paragraph (a) of this AD has been accomplished, perform an eddy current inspection to detect cracking of the fuselage frame angles at the wing front and rear spar attachment to the fuselage at the later of the times specified in paragraphs (c)(1) and (c)(2) of this AD, in accordance with Bombardier Alert Service Bulletin 215-A476, Revision 4, dated August 18, 2000.

(1) Prior to the accumulation of 2,300 total flight hours or 7,500 total water drops, whichever occurs first.

(2) Within 60 days after the effective date of this AD.

Repetitive Inspection

(d) Perform an eddy current inspection to detect cracking of the fuselage frame angles at the wing front and rear spar attachment to the fuselage, in accordance with Bombardier Alert Service Bulletin 215-A476, Revision 4, dated August 18, 2000, at intervals not to exceed 415 flight hours or 1,500 water drops, whichever occurs first.

Corrective Action

(e) If the results of any inspection required by paragraph (c) or (d) of this AD are outside the limits specified in paragraph 2.C.(7) of Bombardier Alert Service Bulletin 215-A476, Revision 4, dated August 18, 2000: Prior to further flight, repair in accordance with a method approved by the Manager, New York ACO, FAA.

Reporting

(f) Within 10 days after performing any inspection required by paragraph (a), (c), or (d) of this AD: Report the findings, positive or negative, to Bombardier Inc., Amphibious Aircraft Division, Customer Support, Department 645, Attention: Manager of Technical Support, Fax Number (514) 855-7602. Information collection requirements contained in this AD have been approved by the Office of Management and Budget (OMB) under the provisions of the Paperwork Reduction Act of 1980 (44 U.S.C. 3501 et seq.) and have been assigned OMB Control Number 2120-0056.

Alternative Methods of Compliance

(g) An alternative method of compliance or adjustment of the compliance time that provides an acceptable level of safety may be used if approved by the Manager, New York ACO. Operators shall submit their requests through an appropriate FAA Principal Maintenance Inspector, who may add comments and then send it to the Manager, New York ACO.

Note 3: Information concerning the existence of approved alternative methods of compliance with this AD, if any, may be obtained from the New York ACO.

Special Flight Permits

(h) Special flight permits may be issued in accordance with §§ 21.197 and 21.199 of the Federal Aviation Regulations (14 CFR 21.197 and 21.199) to operate the airplane to a location where the requirements of this AD can be accomplished.

Incorporation by Reference

(i) Except as provided by paragraphs (b) and (e) of this AD, the actions shall be done in accordance with Bombardier Alert Service Bulletin 215-A476, Revision 3, dated August 21, 1998; and Bombardier Alert Service Bulletin 215-A476, Revision 4, dated August 18, 2000; as applicable.

(1) The incorporation by reference of Bombardier Alert Service Bulletin 215-A476, Revision 4, dated August 18, 2000, is approved by the Director of the Federal Register, in accordance with 5 U.S.C. 552(a) and 1 CFR part 51.

(2) The incorporation by reference of Bombardier Alert Service Bulletin 215-A476, Revision 3, dated August 21, 1998, was approved previously by the Director of the Federal Register as of September 7, 1999 (64 FR 41775, August 2, 1999).

(3) Copies may be obtained from Bombardier, Inc., Canadair, Aerospace Group, P.O. Box 6087, Station Centre-ville, Montreal, Quebec H3C 3G9, Canada. Copies may be inspected at the FAA, Transport Airplane Directorate, 1601 Lind Avenue, SW., Renton, Washington; or at the Office of the Federal Register, 800 North Capitol Street, NW., suite 700, Washington, DC.

Note 4: The subject of this AD is addressed in Canadian airworthiness directive CF-1997-07R2, dated August 17, 2000.

Effective Date

(j) This amendment becomes effective on July 25, 2002.

Issued in Renton, Washington, on June 11, 2002.
Ali Bahrami,
Acting Manager, Transport Airplane Directorate, Aircraft Certification Service.

[FR Doc. 02-15242 Filed 6-19-02; 8:45 am]

BILLING CODE 4910-13-P